DEPARTMENT OF HOMELAND SECURITY

Federal Emergency Management Agency

[Docket ID FEMA-2017-0002; Internal Agency Docket No. FEMA-B-1772]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: December 13, 2017.
Roy E. Wright,
Deputy Associate Administrator for Insurance and Mitigation, Department of Homeland Security, Federal Emergency Management Agency.

State and county | Location and case No. | Chief executive officer of community | Community map repository | Online location of letter of map revision | Date of modification | Community No.
Arizona:
Pima | City of Tucson (17-09-0333P) | The Honorable Jonathan Rothschild, Mayor, City of Tucson, 255 West Alameda Street, 10th Floor, Tucson, AZ 85701 | Planning and Development Services, 201 North Stone Avenue, 1st Floor, Tucson, AZ 85701 | https://msc.fema.gov/portal/advanceSearch | Mar. 26, 2018 | 040076
Pima | Unincorporated Areas of Pima County (17-09-0333P) | The Honorable Sharon Bronson, Chair, Board of Supervisors Pima County, 130 West Congress Street, 11th Floor, Tucson, AZ 85701 | Pima County Flood Control District, 201 North Stone Avenue, 9th Floor, Tucson, AZ 85701 | https://msc.fema.gov/portal/advanceSearch | Mar. 26, 2018 | 040073
California:
Riverside | City of Banning (16-09-1555P) | The Honorable George Moyer, Mayor, City of Banning, 99 East Ramsey Street, Banning, CA 92220 | Public Works Department, 99 East Ramsey Street, Banning, CA 92220 | https://msc.fema.gov/portal/advanceSearch | Mar. 22, 2018 | 060246
Riverside | City of Menifee (17-09-1814P) | The Honorable Neil R. Winter, Mayor, City of Menifee, 29714 Haun Road, Menifee, CA 92586 | Public Works and Engineering Departments, 29714 Haun Road, Menifee, CA 92586 | https://msc.fema.gov/portal/advanceSearch | Mar. 19, 2018 | 060176
Riverside | City of Perris (17-09-1814P) | The Honorable Michael M. Vargas, Mayor, City of Perris, 101 North D Street, Perris, CA 92570 | Engineering Department, 170 Wilkerson Avenue, Perris, CA 92570 | https://msc.fema.gov/portal/advanceSearch | Mar. 19, 2018 | 060258
Riverside | Unincorporated Areas of Riverside County (17-09-1800P) | The Honorable John F. Tavaglione, Chairman, Board of Supervisors, Riverside County, 4080 Lemon Street, 5th Floor, Riverside, CA 92501 | Riverside County Flood Control and Water Conservation District, 1995 Market Street, Riverside, CA 92501 | https://msc.fema.gov/portal/advanceSearch | Mar. 15, 2018 | 060245
Riverside | Unincorporated Areas of Riverside County (17-09-1814P) | The Honorable John F. Tavaglione, Chairman, Board of Supervisors, Riverside County, 4080 Lemon Street, 5th Floor, Riverside, CA 92501 | Riverside County Flood Control and Water Conservation District, 1995 Market Street, Riverside, CA 92501 | https://msc.fema.gov/portal/advanceSearch | Mar. 19, 2018 | 060245
San Diego | City of Carlsbad (17-09-0723P) | The Honorable Matt Hall, Mayor, City of Carlsbad, 1200 Carlsbad Village Drive, Carlsbad, CA 92008 | City Hall, 1200 Carlsbad Village Drive, Carlsbad, CA 92008 | https://msc.fema.gov/portal/advanceSearch | Mar. 19, 2018 | 060285
San Diego | City of Oceanside (17-09-0723P) | The Honorable Jim Wood, Mayor, City of Oceanside, 300 North Coast Highway, Oceanside, CA 92054 | City Hall, 300 North Coast Highway, Oceanside, CA 92054 | https://msc.fema.gov/portal/advanceSearch | Mar. 19, 2018 | 060294
San Diego | City of San Diego (17-09-1759P) | The Honorable Kevin L. Faulconer, Mayor, City of San Diego, 202 C Street, 11th Floor, San Diego, CA 92101 | Development Services Department, 1222 1st Avenue, 3rd Floor, MS 301, San Diego, CA 92101 | https://msc.fema.gov/portal/advanceSearch | Mar. 26, 2018 | 060295
Florida:
Duval | City of Jacksonville (17-04-5002P) | The Honorable Lenny Curry, Mayor, City of Jacksonville, 117 West Duval Street, Suite 400, Jacksonville, FL 32202 | City Hall, 117 West Duval St, Jacksonville, FL 32202 | https://msc.fema.gov/portal/advanceSearch | Mar. 1, 2018 | 120077
St. Johns | Unincorporated Areas of St. Johns County (17-04-5830P) | The Honorable James K. Johns, Chairman, St. Johns County Board of Commissioners, 500 San Sebastian View, St. Augustine, FL 32084 | St. Johns County Permit Center, 4040 Lewis Speedway, St. Augustine, FL 32084 | https://msc.fema.gov/portal/advanceSearch | Mar. 14, 2018 | 125147
St. Johns | Unincorporated Areas of St. Johns County (17-04-5919P) | The Honorable James K. Johns, Chairman, St. Johns County Board of Commissioners, 500 San Sebastian View, St. Augustine, FL 32084 | St. Johns County Permit Center, 4040 Lewis Speedway, St. Augustine, FL 32084 | https://msc.fema.gov/portal/advanceSearch | Mar. 15, 2018 | 125147
St. Johns | Unincorporated Areas of St. Johns County (17-04-6842P) | The Honorable James K. Johns, Chairman, St. Johns County Board of Commissioners, 500 San Sebastian View, St. Augustine, FL 32084 | St. Johns County Permit Center, 4040 Lewis Speedway, St. Augustine, FL 32084 | https://msc.fema.gov/portal/advanceSearch | Mar. 15, 2018 | 125147
Illinois: Will | City of Crest Hill (17-05-5208P) | The Honorable Ray Soliman, Mayor, City of Crest Hill, 1610 Plainfield Road, Crest Hill, IL 60403 | City Hall, 1610 Plainfield Road, Crest Hill, IL 60403 | https://msc.fema.gov/portal/advanceSearch | Mar. 16, 2018 | 170699
Missouri: McDonald | Unincorporated Areas of McDonald County, (17-07-2074P) | Mr. Keith Lindquist, McDonald County Commissioner, 602 Main Street, Pineville, MO 64856 | County Courthouse, 602 Main Street, Pineville, MO 64854 | https://msc.fema.gov/portal/advanceSearch | Mar. 16, 2018 | 290817
Nevada: Clark | City of Henderson, (17-09-2174P) | The Honorable Debra March, Mayor, City of Henderson, 240 South Water Street, Henderson, NV 89015 | City Hall, 240 South Water Street, Henderson, NV 89015 | https://msc.fema.gov/portal/advanceSearch | Mar. 15, 2018 | 320005
Texas: Dallas | City of Mesquite, (17-06-3127P) | The Honorable John Monaco, Mayor, City of Mesquite, 757 North Galloway Avenue, Mesquite, TX 75149 | City Engineering Services, 1515 North Galloway Avenue, Mesquite, TX 75185 | https://msc.fema.gov/portal/advanceSearch | Mar. 27, 2018 | 485490

[FR Doc. 2017-28174 Filed 12-28-17; 8:45 am]

BILLING CODE 9110-12-P